DEPARTMENT OF THE INTERIOR

Bureau of Land Management

[UT-090-1610-017J]

Notice of Availability of Monticello Field Office Proposed Resource Management Plan and Final Environmental Impact Statement (PRMP/FEIS)

AGENCY: Bureau of Land Management, Interior.

ACTION: Notice of availability.

SUMMARY: In accordance with the National Environmental Policy Act of 1969 and the Federal Land Policy and Management Act of 1976, the Bureau of Land Management (BLM) has prepared a Proposed Resource Management Plan/Final Environmental Impact Statement (PRMP/FEIS) for the Monticello Field Office.

DATES: The BLM planning regulations (43 CFR 1610.5-2) state that any person who meets the conditions as described in the regulations may protest the BLM's PRMP/FEIS. A person who meets the conditions and files a protest must file the protest within 30 days of the date that the Environmental Protection Agency publishes this notice in the Federal Register.

ADDRESSES: Copies of the Monticello Field Office PRMP/FEIS were sent to affected Federal, State, and local government agencies and to interested parties. Copies of the PRMP/FEIS are available for public inspection at:

Monticello Field Office, 365 N. Main, Monticello, UT 84535.

Utah State Office, 440 West 200 South, Salt Lake City, UT 84145.

Interested persons may also review the PRMP/FEIS on the Internet at http://www.blm.gov/ut/st/en/fo/monticello/planning.html. All protests must be in writing and mailed to the following addresses:

Regular Mail: Director (210), Attention: Brenda Williams, P.O. Box 66538, Washington, DC 20035.

Overnight Mail: Director (210), Attention: Brenda Williams, 1620 L Street, NW., Suite 1075, Washington, DC 20036.

FOR FURTHER INFORMATION CONTACT: Nick Sandberg, Monticello Field Office, 365 N. Main, Monticello, UT 84535; phone: (435) 587-1500; or e-mail at: Nick_Sandberg@blm.gov.

SUPPLEMENTARY INFORMATION: The Monticello RMP planning area is located in southeast Utah. The BLM administers approximately 1.8 million acres of surface estate and 2.5 million acres of Federal mineral estate within the planning area.

The Monticello RMP will provide future broad-scale management direction for land use allocations and allowable uses on public lands within the planning area. Implementation of the decisions of the PRMP would apply only to BLM-administered public lands and Federal mineral estate. In the Monticello Field Office Draft RMP/EIS (DRMP/DEIS), which was released for a 90-day public review and comment period in November 2007, five alternatives were analyzed, including a No Action alternative. These alternatives were developed through issue identification during the scoping process. Such issues included: Recreation use and off-highway vehicles (OHVs), mineral development, special designations (ACECs and WSRs), cultural resource management, and non-WSA lands with Wilderness Characteristics.

The PRMP/FEIS would designate two new Areas of Critical Environmental Concern (ACECs), and the continuation of five existing ACECs, totaling 74,430 acres. Resource use limitations that apply to the proposed ACECs include a range of different prescriptions as described in Table 1 below.

Table 1—Evaluation of Areas of Critical Environmental Concern
ACEC | Values of concern | Resource use limitations | Acres
Alkali Ridge | Cultural | All cultural properties eligible for the NRHP would be surrounded by an avoidance area sufficient to allow permanent protection; where avoidance is not possible and adverse impacts may occur, BLM would develop appropriate mitigation measures; available for mineral leasing under controlled surface use except the National Historic Landmark which would be available under No Surface Occupancy; confine woodland harvest to specific areas if cultural resources are being impacted; OHV use limited to designated routes | 39,196
Hovenweep | Cultural | Visual Protection Zone: Available for mineral leasing with No Surface Occupancy; managed as VRM II | 2,439
|  | Cajon Pond: Available for mineral leasing and other surface uses with stipulations to prevent surface occupancy or surface disturbance during March 1-June 30 and excluded from livestock use yearlong within the fenced portion
|  | General Area: All cultural properties eligible for the NRHP would be surrounded by an avoidance area sufficient to allow permanent protection; where avoidance is not possible and adverse impacts may occur, BLM would develop appropriate mitigation measures; available for mineral leasing under controlled surface use; OHV use limited to designated roads and trails; unavailable for disposal of mineral materials, and excluded from private or commercial use of woodland products, except for limited on-site collection of dead wood for campfires
Indian Creek | Scenic | Available for mineral leasing subject to No Surface Occupancy; unavailable for mineral material disposal; and unavailable for private or commercial use of woodland products including on-site collection of dead wood for campfires; managed as VRM I and closed to OHV use | 3,908
Lavender Mesa | Relict Vegetation | Excluded from land treatments or other improvements, except for test plots and facilities necessary for study of the plant communities, and restoration/reclamation activities; available for mineral leasing subject to No Surface Occupancy; campfires are not allowed; limit recreation use if vegetation communities are being adversely impacted; unavailable for mineral material disposal; unavailable for private or commercial use of woodland products including limited on-site collection of dead wood for campfires; unavailable for livestock grazing, including saddle stock and pack animals allowed for access; excluded from wildlife habitat improvements and watershed control structures; managed as VRM II; closed to OHV use; and excluded from surface disturbance by mechanized or motorized equipment, except helicopter access for scientific study and heliportable equipment insofar as possible | 649
Shay Canyon | Cultural | OHV and mechanized travel limited to designated routes; no surface disturbance for vegetation, watershed, or wildlife treatments/improvements; manage as NSO for oil and gas; open to geophysical exploration as long as it is consistent with the objectives of the ACEC; grazing restricted to trailing only; with the exception of side canyons, hiking limited to designated trails; open to mineral entry with an approved plan of operations to avoid impacts to cultural and paleontological resources; unavailable for disposal of mineral materials; closed to campfires; unavailable for private or commercial use of woodland products including on-site collection of dead wood for campfires; recreation use may be limited if cultural and paleontological resources are impacted; and closed to camping | 119
San Juan River | Scenic, Cultural, Wildlife, Natural Systems | Vehicle access, including OHVs/mechanized, limited to designated routes; unavailable for private/commercial use of woodland products except for limited on-site collection of dead wood for campfires, driftwood collection only would be allowed within floodplains; available for livestock use October 1-May 31 and must incorporate rest-rotation and/or deferred management systems; available for oil and gas leasing subject to No Surface Occupancy; unavailable for mineral material disposal; recommended for withdrawal from locatable mineral entry; limit recreation use if wildlife values are being adversely impacted; closed to camping in areas as necessary to protect cultural, wildlife and natural processes; managed as VRM I (parts) and VRM II (parts) and VRM III (parts); designated access trails to cultural sites as necessary to protect cultural resources; no camping in cultural sites; and ropes and other climbing aids not allowed for access to ruins, cultural sites, and nesting raptors | 5,258
Valley of the Gods | Scenic | Unavailable for mineral leasing; unavailable for mineral material disposal; OHV use limited to designated roads and trails; managed as VRM I and unavailable for private/commercial use of woodland products | 22,863

Comments on the Monticello Field Office DRMP/DEIS received from the public and internal BLM review were considered and incorporated as appropriate into the PRMP/FEIS. Public comments resulted in the addition of clarifying text, but did not significantly change proposed land use plan decisions.

Instructions for filing a protest with the Director of the BLM regarding the PRMP/FEIS may be found in the Dear Reader Letter of the PRMP/FEIS and at 43 CFR 1610.5-2. E-mailed and faxed protests will not be accepted as valid protests unless the protesting party also provides the original letter by either regular or overnight mail postmarked by the close of the protest period. Under these conditions, the BLM will consider the e-mailed or faxed protest as an advance copy and it will receive full consideration. If you wish to provide the BLM with such advance notification, please direct faxed protests to the attention of the BLM protest coordinator at 202-452-5112, and e-mails to Brenda_Hudgens-Williams@blm.gov. All protests, including the follow-up letter (if e-mailing or faxing) must be in writing and mailed to the appropriate address, as set forth in the ADDRESSES section above.

Before including your phone number, e-mail address, or other personal identifying information in your protest, you should be aware that your entire protest—including your personal identifying information—may be made publicly available at any time. While you can ask us in your protest to withhold your personal identifying information from public review, we cannot guarantee that we will be able to do so.

Authority: 40 CFR 1506.6, 43 CFR 1610.2, 43 CFR 1610.5-1

Selma Sierra,
Utah State Director.

[FR Doc. E8-20670 Filed 9-4-08; 8:45 am]

BILLING CODE 4310-DQ-P